NUCLEAR REGULATORY COMMISSION

[Docket No. 50-608; NRC-2013-0053]

SHINE Medical Technologies, Inc.

AGENCY: Nuclear Regulatory Commission.

ACTION: Intent to prepare environmental impact statement and conduct scoping process; public meeting.

SUMMARY: This notice advises the public that the NRC intends to gather the information necessary to prepare an Environmental Impact Statement for construction and operation of the proposed SHINE radioisotope production facility.

DATES: Submit comments by August 30, 2013. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2013-0053. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

For additional direction on accessing information and submitting comments, see “Accessing Information and Submitting Comments” in the SUPPLEMENTARY INFORMATION section of this document.

FOR FURTHER INFORMATION CONTACT: Michelle Moser, Project Manager, Office of Nuclear Reactor Regulation, U.S. Nuclear Regulatory Commission, Washington, DC, 20555-0001; telephone: 301-415-6509; email: Michelle.Moser@nrc.gov.

SUPPLEMENTARY INFORMATION:

I. Accessing Information and Submitting Comments

A. Accessing Information

Please refer to Docket ID NRC-2013-0053 when contacting the NRC about the availability of information regarding this document. You may access information related to this document, which the NRC possesses and is publicly available, by any of the following methods:

• Federal Rulemaking Web site: Go to http://www.regulations.gov and search for Docket ID NRC-2013-0053.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ER is available in ADAMS under Accession Number ML130880226. In addition, the ER is available to the public near the site at the Hedberg Public Library, 316 South Main Street, Janesville, Wisconsin 53545.

• NRC's PDR: You may examine and purchase copies of public documents at the NRC's PDR, Room O1-F21, One White Flint North, 11555 Rockville Pike, Rockville, Maryland 20852.

B. Submitting Comments

Please include Docket ID NRC-2013-0053 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

SHINE Medical Technologies, Inc. (SHINE) has submitted a partial application for a construction permit to construct a radioisotope production facility. The proposed SHINE facility would be located approximately four miles south of Janesville, Wisconsin.

The first part of the application for the construction permit, dated March 26, 2013, was submitted pursuant to part 50 of Title 10 of the Code of Federal Regulations (10 CFR) and included an environmental report (ER). A separate notice of receipt and availability of this portion of the application was published in the Federal Register on May 20, 2013 (78 FR 29390). A notice of acceptance for docketing of the first part of the construction permit application is also being published separately in the Federal Register. The purpose of this notice is to inform the public that the U.S. Nuclear Regulatory Commission (NRC) will be preparing an environmental impact statement (EIS) related to the review of the construction permit application and to provide the public an opportunity to participate in the environmental scoping process, as defined in 10 CFR 51.29.

As outlined in 36 CFR 800.8, “Coordination with the National Environmental Policy Act,” the NRC plans to coordinate compliance with Section 106 of the National Historic Preservation Act (NHPA) in meeting the requirements of the National Environmental Policy Act of 1969 (NEPA). Pursuant to 36 CFR 800.8(c), the NRC intends to use its process and documentation for the preparation of the EIS on the proposed action to comply with Section 106 of the NHPA in lieu of the procedures set forth at 36 CFR 800.3 through 800.6.

This notice advises the public that the NRC intends to gather the information necessary to prepare an Environmental Impact Statement for construction and operation of the proposed SHINE radioisotope production facility. Possible alternatives to the proposed action (construction and operation of the proposed SHINE facility) include no action, alternative sites, and alternative technologies to produce radioisotopes. This notice is being published in accordance with NEPA and the NRC's regulations found at 10 CFR part 51.

The NRC will first conduct a scoping process for the EIS and, as soon as practicable thereafter, will prepare a draft EIS for public comment. Participation in the scoping process by members of the public and local, State, Tribal, and Federal government agencies is encouraged. The scoping process for the EIS will be used to accomplish the following:

a. Define the proposed action, which is to be the subject of the EIS;

b. Determine the scope of the EIS and identify the significant issues to be analyzed in depth;

c. Identify and eliminate from detailed study those issues that are peripheral or that are not significant;

d. Identify any environmental assessments and other ElSs that are being or will be prepared that are related to, but are not part of, the scope of the EIS being considered;

e. Identify other environmental review and consultation requirements related to the proposed action;

f. Indicate the relationship between the timing of the preparation of the environmental analyses and the Commission's tentative planning and decision-making schedule;

g. Identify any cooperating agencies and, as appropriate, allocate assignments for

preparation, and schedules for completing the EIS to the NRC and any cooperating agencies; and

h. Describe how the EIS will be prepared and include any contractor assistance to be used.

The NRC invites the following entities to participate in scoping:

a. The applicant, SHINE;

b. Any Federal agency that has jurisdiction by law or special expertise with respect to any environmental impact involved or that is authorized to develop and enforce relevant environmental standards;

c. Affected State and local government agencies, including those authorized to develop and enforce relevant environmental standards;

d. Any affected Indian tribe;

e. Any person who requests or has requested an opportunity to participate in the scoping process; and

f. Any person who has petitioned or intends to petition for leave to intervene.

In accordance with 10 CFR 51.26, the scoping process for an EIS may include a public scoping meeting to help identify significant issues related to a proposed activity and to determine the scope of issues to be addressed in an EIS. The NRC has decided to hold public meetings for the SHINE environmental review on July 17, 2013. The first meeting will begin with an open house from 12:30 p.m. until 1:30 p.m., followed by an NRC presentation and opportunity to hear public comments from 1:30 p.m. until 3:30 p.m., as necessary. The second meeting will begin with an open house from 6:00 p.m. until 7:00 p.m., followed by a repeat of NRC's earlier presentation and opportunity to hear public comments from 7:00 p.m. until 9:00 p.m., as necessary. Both sessions will be held at the Rotary Botanical Gardens, 1455 Palmer Dr., Janesville, Wisconsin 53545.

Both meetings will be transcribed and will include: (1) An overview by the NRC staff of the NEPA environmental review process, the proposed scope of the EIS, and the proposed review schedule; and (2) the opportunity for interested government agencies, organizations, and individuals to submit comments or suggestions on the environmental issues or the proposed scope of the EIS. Additionally, the NRC staff will host informal discussions during the open house one hour prior to the start of each session at the same location. No formal comments on the proposed scope of the EIS will be accepted during the informal discussions. To be considered, comments must be provided either at the transcribed public meetings or in writing, as discussed in the ADDRESSES section of this notice.

Persons may register to attend or present oral comments at the meetings on the scope of the NEPA review by contacting the NRC Environmental Project Manager, Michelle Moser, by telephone at 800-368-5642, ext. 6509, or by email at Michelle.Moser@nrc.gov, no later than July 3, 2013. Members of the public may also register to speak at the meeting within 15 minutes of the start of each session. Individual oral comments may be limited by the time available, depending on the number of persons who register. Members of the public who have not registered may also have an opportunity to speak if time permits. Public comments will be considered in the scoping process for the EIS. Michelle Moser will need to be contacted no later than July 10, 2013, if special equipment or accommodations are needed to attend or present information at the public meeting so that the NRC staff can determine whether the request can be accommodated.

Participation in the scoping process for the EIS does not entitle participants to become parties to the proceeding to which the EIS relates. Matters related to participation in any hearing are outside the scope of matters to be discussed at this public meeting. The notice of acceptance for docketing of the application and a description of the hearing process will be published separately in the Federal Register.

Dated at Rockville, Maryland, this 24th day of June, 2013.
For the Nuclear Regulatory Commission.
Melanie Wong,
Chief, Environmental Guidance and Review Branch, Division of License Renewal, Office of Nuclear Reactor Regulation.

[FR Doc. 2013-15686 Filed 6-28-13; 8:45 am]

BILLING CODE 7590-01-P